ENVIRONMENTAL PROTECTION AGENCY

[FRL-9909-63-OCFO]

Meeting of the Environmental Financial Advisory Board—Public Notice

AGENCY: Environmental Protection Agency (EPA).

ACTION: Notice of open meeting of the Environmental Financial Advisory Board.

SUMMARY: The Environmental Protection Agency's (EPA) Environmental Financial Advisory Board (EFAB) will hold a public meeting on May 13-14, 2014. EFAB is an EPA advisory committee chartered under the Federal Advisory Committee Act (FACA) to provide advice and recommendations to EPA on creative approaches to funding environmental programs, projects, and activities.

The purpose of this meeting is to hear from informed speakers on environmental finance issues, proposed legislation, and EPA priorities; to discuss activities, progress, and preliminary recommendations with regard to current EFAB work projects; and to consider requests for assistance from EPA offices.

Environmental finance discussions, and presentations are expected on the following topics: environmental infrastructure resilience and sustainability; transit-oriented development in sustainable communities; improving compliance at small water systems in Puerto Rico and the Virgin Islands; brownfields clean-up and redevelopment; the interaction of technology and finance in environmental programs; and green infrastructure.

The meeting is open to the public; however, seating is limited. All members of the public who wish to attend the meeting must register in advance no later than Friday May 2, 2014.

DATES: The full board meeting will be held on Tuesday May 13, 2014 from 9:00 a.m. to 5 p.m., EST and Wednesday, May 14, 2014 from 9-3:00 p.m., EST.

ADDRESSES: Potomac Yard South, 2733 S. Crystal Drive, Arlington, VA 22202.

FOR FURTHER INFORMATION CONTACT: For information on access or services for individuals with disabilities, or to request accommodations for a person with a disability, please contact Sandra Williams, U.S. EPA, at (202) 564-4999 or williams.sandra@epa.gov, at least 10 days prior to the meeting, to allow as much time as possible to process your request.

Dated: April 7, 2014.
David Bloom,
Acting Deputy Chief Financial Officer.

[FR Doc. 2014-08487 Filed 4-14-14; 8:45 am]

BILLING CODE 6560-50-P